DEPARTMENT OF TRANSPORTATION

Federal Aviation Administration

Membership in the National Parks Overflights Advisory Group

AGENCY: Federal Aviation Administration (FAA), DOT.

ACTION: Notice of Selection to and Solicitation of Applications for the National Park Overflights Advisory Group.

SUMMARY: By Federal Register notice on February 14, 2025, the Federal Aviation Administration (FAA) and the National Park Service (NPS), invited interested persons to apply to fill two vacancies on the National Parks Overflights Advisory Group (NPOAG): one position representing general aviation and one position representing Native American tribes. This notice informs the public of the selection made for the vacancy representing general aviation. The position representing Native American tribes was not filled. This notice also invites interested persons to apply to fill four vacancies on the National Parks Overflights Advisory Group (NPOAG). The openings are for a representative of Native American tribes, a representative of air tour operators, and two representatives of environmental concerns.

DATES: Persons interested in these membership openings will need to apply by October 3, 2025.

FOR FURTHER INFORMATION CONTACT: Sandi Fox, Environmental Protection Specialist, FAA Office of Environment and Energy, 400 N 8th St., Suite 750, Richmond, VA 23219, telephone: (202) 267-0928, email: sandra.y.fox@faa.gov.

SUPPLEMENTARY INFORMATION:

I. Background

The National Parks Air Tour Management Act of 2000 (the Act) was enacted on April 5, 2000, as Public Law 106-181, and subsequently amended in the FAA Modernization and Reform Act of 2012. The Act required the establishment of the advisory group within one year after its enactment. The NPOAG was established in March 2001. The advisory group is comprised of representatives of general aviation, commercial air tour operators, environmental concerns, and Native American tribes. The Administrator of the FAA and the Director of NPS (or their designees) serve as ex officio members of the group. Representatives of the Administrator and Director serve alternating 1-year terms as chairman of the advisory group.

In accordance with the Act, the advisory group provides “advice, information, and recommendations to the Administrator and the Director—

(1) On the implementation of this title (the Act) and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Selections: Murray Huling was selected to fill the vacancy for general aviation. The three-year term will commence on the publication date of this Federal Register notice.

II. Membership

The current NPOAG is made up of one member representing general aviation, three members representing commercial air tour operators, four members representing environmental concerns, and two members representing Native American tribes. Members serve three-year terms.

III. Solicitation for Membership

To retain balance within the NPOAG, the FAA and NPS are seeking candidates interested in filling four vacancies: one representing Native American tribes, one representing the commercial air tour industry, and two representing environmental interests, one of which will be available on September 13, 2025, when the current term expires. The other three vacancies are available now. The FAA and NPS invite persons interested in these openings on the NPOAG to contact the person listed in the FOR FURTHER INFORMATION CONTACT section.

Requests to serve on the NPOAG must be made in writing and postmarked or emailed on or before October 3, 2025. Any request to fill one of these seats must describe the requestor's affiliation with commercial air tour operators, environmental concerns, or federally recognized Native American tribes, as appropriate. The request should also explain what expertise the requestor would bring to the NPOAG as related to issues and concerns with aircraft flights over national parks or tribal lands. The term of service for NPOAG members is 3 years. Members may re-apply for another term.

On August 13, 2014, the Office of Management and Budget issued revised guidance regarding the prohibition against appointing or not reappointing federally registered lobbyists to serve on advisory committees (79 Federal Register 47482). Therefore, before appointing an applicant to serve on the NPOAG, the FAA and NPS will require the prospective candidate to certify that they are not a federally registered lobbyist.

Dated: August 14, 2025.
Sandra Fox,
Environmental Protection Specialist.

[FR Doc. 2025-15718 Filed 8-18-25; 8:45 am]

BILLING CODE 4910-13-P